DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Spring 2019 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to prerulemaking, proposed rules, final rules, long-term actions, and rulemaking actions completed since the fall 2018 agenda. The purpose of the Agenda is to provide information to the public on regulations that are currently under review, being proposed, or issued by Commerce. The Agenda is intended to facilitate comments and views by interested members of the public. Commerce's spring 2019 regulatory agenda includes regulatory activities that are expected to be conducted during the period May 1, 2019, through April 30, 2020.

FOR FURTHER INFORMATION CONTACT:

Specific: For additional information about specific regulatory actions listed in the agenda, contact the individual identified as the contact person.

General: Comments or inquiries of a general nature about the Agenda should be directed to Asha Mathew, Chief Counsel for Regulation, Office of the Assistant General Counsel for Legislation, Regulation, and Oversight, U.S. Department of Commerce, Washington, DC 20230, telephone: 202-482-3151.

SUPPLEMENTARY INFORMATION: Commerce hereby publishes its spring 2019 Unified Agenda of Federal Regulatory and Deregulatory Actions pursuant to Executive Order 12866 and the Regulatory Flexibility Act, 5 U.S.C. 601 et seq. Executive Order 12866 requires agencies to publish an agenda of those regulations that are under consideration pursuant to this order. By memorandum of February 7, 2019, the Office of Management and Budget issued guidelines and procedures for the preparation and publication of the spring 2019 Unified Agenda. The Regulatory Flexibility Act requires agencies to publish, in the spring and fall of each year, a regulatory flexibility agenda that contains a brief description of the subject of any rule likely to have a significant economic impact on a substantial number of small entities.

Beginning with the fall 2007 edition, the internet became the basic means for disseminating the Unified Agenda. The complete Unified Agenda is available online at www.reginfo.gov, in a format that offers users a greatly enhanced ability to obtain information from the Agenda database.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the internet.

Within Commerce, the Office of the Secretary and various operating units may issue regulations. Among these operating units, the National Oceanic and Atmospheric Administration (NOAA), the Bureau of Industry and Security, and the Patent and Trademark Office issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. For fisheries that require conservation and management measures, eight Regional Fishery Management Councils (Councils) prepare and submit to NMFS Fishery Management Plans (FMPs) for fisheries within their respective areas in the EEZ. The Councils are required by law to conduct public hearings on the development of FMPs and FMP amendments. Consistent with applicable law, environmental and other analyses are developed that consider alternatives to proposed actions.

Pursuant to the Magnuson-Stevens Act, the Councils also submit to NMFS proposed regulations that they deem necessary or appropriate to implement FMPs. The proposed regulations, FMPs, and FMP amendments are subject to review and approval by NMFS, based on consistency with the Magnuson-Stevens Act and other applicable law. NMFS is responsible for conducting the rulemaking process for FMP implementing regulations. The Council process for developing FMPs and amendments and proposed regulations makes it difficult for NMFS to determine the significance and timing of some regulatory actions under consideration by the Councils at the time the semiannual regulatory agenda is published.

Commerce's spring 2019 regulatory agenda follows.

Peter B. Davidson,
General Counsel.

International Trade Administration—Proposed Rule Stage
Sequence No. | Title | Regulation Identifier No.
14 | Regulations Concerning Scope Inquiries and Covered Merchandise Referrals From U.S. Customs and Border Protection | 0625-AB10

Bureau of Industry and Security—Final Rule Stage
Sequence No. | Title | Regulation Identifier No.
15 | Expansion of Export, Reexport, and Transfer (In-Country) Controls for Military End Use or Military End Users in the People's Republic of China (China), Russia, or Venezuela | 0694-AH53

National Oceanic and Atmospheric Administration—Proposed Rule Stage
Sequence No. | Title | Regulation Identifier No.
16 | Comprehensive Fishery Management Plan for Puerto Rico | 0648-BD32
17 | Comprehensive Fishery Management Plan for St. Croix | 0648-BD33
18 | Comprehensive Fishery Management Plan for St. Thomas/St. John | 0648-BD34
19 | International Fisheries; South Pacific Tuna Fisheries; Implementation of Amendments to the South Pacific Tuna Treaty | 0648-BG04
20 | Illegal, Unregulated, and Unreported Fishing; Fisheries Enforcement; High Seas Driftnet Fishing Moratorium Protection Act | 0648-BG11
21 | International Fisheries; Western and Central Pacific Fisheries for Highly Migratory Species; Requirements to Safeguard Fishery Observers | 0648-BG66
22 | Area of Overlap Between the Convention Areas of the Inter-American Tropical Tuna Commission and the Western and Central Pacific Fisheries Commission | 0648-BH59
23 | Omnibus Deep-Sea Coral Amendment | 0648-BH67
24 | Regulatory Amendment to the Pacific Coast Groundfish Fishery Management Plan to Implement an Electronic Monitoring Program for Bottom Trawl and Non-Whiting Midwater Trawl Vessels | 0648-BH70
25 | Vessel Movement, Monitoring, and Declaration Management Enhancement for the Pacific Coast Groundfish Fishery; Pacific Coast Groundfish Fishery Management Plan | 0648-BI45
26 | Atlantic Highly Migratory Species; Pelagic Longline Bluefin Tuna Area-Based and Weak Hook Management | 0648-BI51
27 | Requirements to Safeguard Fishery Observers in the Eastern Pacific Ocean | 0648-BI86
28 | Amendment and Updates to the Pelagic Longline Take Reduction Plan | 0648-BF90
29 | Revision to Critical Habitat Designation for Endangered Southern Resident Killer Whales | 0648-BH95
30 | Designation of Critical Habitat for the Mexico, Central American, and Western Pacific Distinct Population Segments of Humpback Whales Under the Endangered Species Act | 0648-BI06

National Oceanic and Atmospheric Administration—Final Rule Stage
Sequence No. | Title | Regulation Identifier No.
31 | Regulatory Amendment to the Pacific Coast Groundfish Fishery Management Plan to Implement an Electronic Monitoring Program for the Pacific Whiting Fishery | 0648-BF52
32 | Commerce Trusted Trader Program | 0648-BG51
33 | Rule to Implement the For-Hire Reporting Amendments | 0648-BG75
34 | Generic Amendment to the Fishery Management Plans for the Reef Fish Resources of the Gulf of Mexico and Coastal Migratory Pelagic Resources in the Gulf of Mexico and Atlantic Region | 0648-BH72
35 | Magnuson-Stevens Fisheries Conservation and Management Act; Traceability Information Program for Seafood | 0648-BH87
36 | Halibut Deck Sorting Monitoring Requirements for Trawl Catcher/Processors Operating in Non-Pollock Groundfish Fisheries off Alaska | 0648-BI53
37 | Framework Adjustment 58 to the Northeast Multispecies Fishery Management Plan | 0648-BI64
38 | Regulation to Reduce Incidental Bycatch and Mortality of Sea Turtles in the Southeastern U.S. Shrimp Fisheries | 0648-BG45
39 | Wisconsin-Lake Michigan National Marine Sanctuary Designation | 0648-BG01
40 | Mallows Bay-Potomac River National Marine Sanctuary Designation | 0648-BG02

National Oceanic and Atmospheric Administration—Long-Term Actions
Sequence No. | Title | Regulation Identifier No.
41 | Implementation of a Program for Transshipments by Large Scale Fishing Vessels in the Eastern Pacific Ocean | 0648-BD59
42 | Pacific Coast Groundfish Fishing Capacity Reduction Loan Refinance | 0648-BE90
43 | International Fisheries; Western and Central Pacific Fisheries for Highly Migratory Species; Treatment of U.S. Purse Seine Fishing With Respect to U.S. Territories | 0648-BF41
44 | Reducing Disturbances to Hawaiian Spinner Dolphins From Human Interactions | 0648-AU02
45 | Designation of Critical Habitat for the Arctic Ringed Seal | 0648-BC56
46 | Endangered and Threatened Species; Designation of Critical Habitat for Threatened Caribbean and Indo-Pacific Reef-Building Corals | 0648-BG26

National Oceanic and Atmospheric Administration—Completed Actions
Sequence No. | Title | Regulation Identifier No.
47 | Voting Criteria for a Referendum on a Gulf of Mexico Reef Fish Catch Share Program for For-Hire Vessels With Landings Histories | 0648-BG36
48 | Allow Halibut Individual Fishing Quota Leasing to Community Development Quota Groups | 0648-BG94
49 | Amendment 116 to the Fishery Management Plan for Groundfish of the Bering Sea and Aleutian Islands Management Area | 0648-BH02
50 | Atlantic Highly Migratory Species; Atlantic Bluefin Tuna and North Atlantic Albacore Quotas | 0648-BH54
51 | Atlantic Highly Migratory Species; Shortfin Mako Shark Management Measures | 0648-BH75
52 | Revisions to Regulations for Species With Sideboard Limits That Cannot Support Directed Fishing by Vessels Subject to Sideboards in the Bering Sea and Aleutian Islands and Gulf of Alaska | 0648-BH88
53 | 2019 — 2020 Harvest Specifications and Management Measures for Pacific Coast Groundfish and Fishery Management Plan | 0648-BH93
54 | Regulatory Amendment 28 to the Fishery Management Plan for the Snapper-Grouper Fishery of the South Atlantic Region | 0648-BI38
55 | Framework Action to the Fishery Management Plan for Reef Fish Resources of the Gulf of Mexico, Modification of Gulf of Mexico Red Snapper and Hogfish Annual Catch Limits | 0648-BI39
56 | Regulatory Amendment to Authorize a Recreational Quota Entity | 0648-BG57

Patent and Trademark Office—Final Rule Stage
Sequence No. | Title | Regulation Identifier No.
57 | Requirement of U.S. Licensed Attorney for Foreign Trademark Applicants and Registrants | 0651-AD30

DEPARTMENT OF COMMERCE (DOC)

International Trade Administration (ITA)

Proposed Rule Stage

14. Regulations Concerning Scope Inquiries and Covered Merchandise Referrals From U.S. Customs and Border Protection

E.O. 13771 Designation: Other.

Legal Authority: Pub. L. 114-125, sec 421

Abstract: The Department of Commerce (Commerce) is proposing to amend its regulations concerning scope inquiries (19 CFR 351.225) and to set forth procedures addressing covered merchandise referrals from U.S. Customs and Border Protection (CBP or the Customs Service).

Timetable:

Action | Date | FR Cite
NPRM | 09/00/19 |

Regulatory Flexibility Analysis Required: Yes.

Agency Contact: Jessica Link, Department of Commerce, International Trade Administration, 1401 Constitution Avenue NW, Washington, DC 20230, Phone: 202 482-1411, Email: jessica.link@trade.gov.

RIN: 0625-AB10

DEPARTMENT OF COMMERCE (DOC)

Bureau of Industry and Security (BIS)

Final Rule Stage

15. Expansion of Export, Reexport, and Transfer (In-Country) Controls for Military End Use or Military End Users in the People's Republic of China (China), Russia, or Venezuela

E.O. 13771 Designation: Other.

Legal Authority: 10 U.S.C. 7420; 10 U.S.C. 7430(e); 15 U.S.C. 1824a; 22 U.S.C. 287c; 22 U.S.C. 3201 et seq.; 22 U.S.C. 6004; 22 U.S.C. 7201 et seq.; 22 U.S.C. 7210; 30 U.S.C. 185(s); 30 U.S.C. 185(u); 42 U.S.C. 2139a; 43 U.S.C. 1354; 50 U.S.C. 1701 et seq.; 50 U.S.C. 4305; 50 U.S.C. 4601 et seq.; E.O. 12058; E.O. 12851; E.O. 12938; E.O. 12947; E.O. 13026; E.O. 13099; E.O. 13222; E.O. 13224; Pub. L. 108-11

Abstract: The Bureau of Industry and Security (BIS) is amending the Export Administration Regulations (EAR) to expand license requirements on exports, reexports, and transfers (in-country) of items intended for military end use or military end users in the People's Republic of China (China), Russia, or Venezuela. Specifically, this rule expands the licensing requirements for China to include “military end users,” in addition to “military end use.” It broadens the items for which the licensing requirements and review policy apply and expand the definition of “military end use.” Next, it creates a new reason for control and associated review policy for regional stability for certain items to China, Russia, or Venezuela, moving existing text related to this policy. Finally, it adds Electronic Export Information filing requirements in the Automated Export System for exports to China, Russia, and Venezuela.

Timetable:

Action | Date | FR Cite
Final Action | 07/00/19 |

Regulatory Flexibility Analysis Required: Yes.

Agency Contact: Hillary Hess, Director, Regulatory Policy Division, Department of Commerce, Bureau of Industry and Security, 14th Street and Pennsylvania Avenue NW, Washington, DC 20230, Phone: 202 482-2440, Fax: 202 482-3355, Email: hillary.hess@bis.doc.gov.

RIN: 0694-AH53

DEPARTMENT OF COMMERCE (DOC)

National Oceanic and Atmospheric Administration (NOAA)

Proposed Rule Stage

National Marine Fisheries Service

16. Comprehensive Fishery Management Plan for Puerto Rico

E.O. 13771 Designation: Not subject to, not significant.

Legal Authority: 16 U.S.C. 1801 et seq.

Abstract: This rule would implement a comprehensive Puerto Rico Fishery Management Plan. The Plan would incorporate, and modify as needed, Federal fisheries management measures presently included in each of the existing species-based U.S. Caribbean Fishery Management Plans (Spiny Lobster, Reef Fish, Coral, and Queen Conch Fishery Management Plans) as those measures pertain to Puerto Rico exclusive economic zone waters. The goal of this action is to create a Fishery Management Plan tailored to the specific fishery management needs of Puerto Rico. This new Plan, in conjunction with similar comprehensive Fishery Management Plans being developed for St. Croix and St. Thomas/St. John, would replace the Spiny Lobster, Reef Fish, Coral and Queen Conch Fishery Management Plans presently governing the commercial and recreational harvest in U.S. Caribbean exclusive economic zone waters.

Timetable:

Action | Date | FR Cite
NPRM | 05/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD32

17. Comprehensive Fishery Management Plan for St. Croix

E.O. 13771 Designation: Not subject to, not significant.

Legal Authority: 16 U.S.C. 1801 et seq.

Abstract: This rule would implement a comprehensive St. Croix Fishery Management Plan. The Plan would incorporate, and modify as needed, Federal fisheries management measures presently included in each of the existing species-based U.S. Caribbean Fishery Management Plans (Spiny Lobster, Reef Fish, Coral, and Queen Conch Fishery Management Plans) as those measures pertain to St. Croix exclusive economic zone waters. The goal of this action is to create a Fishery Management Plan tailored to the specific fishery management needs of St. Croix. This new Plan, in conjunction with similar comprehensive Fishery Management Plans being developed for Puerto Rico and St. Thomas/St. John, would replace the Spiny Lobster, Reef Fish, Coral and Queen Conch Fishery Management Plans presently governing the commercial and recreational harvest in U.S. Caribbean exclusive economic zone waters.

Timetable:

Action | Date | FR Cite
NPRM | 05/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD33

18. Comprehensive Fishery Management Plan for St. Thomas/St. John

E.O. 13771 Designation: Not subject to, not significant.

Legal Authority: 16 U.S.C. 1801 et seq.

Abstract: This rule would implement a comprehensive St. Thomas/St. John Fishery Management Plan. The Plan would incorporate, and modify as needed, Federal fisheries management measures presently included in each of the existing species-based U.S. Caribbean Fishery Management Plans (Spiny Lobster, Reef Fish, Coral, and Queen Conch Fishery Management Plans) as those measures pertain to St. Thomas/St. John exclusive economic zone waters. The goal of this action is to create a Fishery Management Plan tailored to the specific fishery management needs of St. Thomas/St. John. This new Plan, in conjunction with similar comprehensive Fishery Management Plans being developed for St. Croix and Puerto Rico, would replace the Spiny Lobster, Reef Fish, Coral and Queen Conch Fishery Management Plans presently governing the commercial and recreational harvest in U.S. Caribbean exclusive economic zone waters.

Timetable:

Action | Date | FR Cite
NPRM | 05/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD34

19. International Fisheries; South Pacific Tuna Fisheries; Implementation of Amendments to the South Pacific Tuna Treaty

E.O. 13771 Designation: Not subject to, not significant.

Legal Authority: 16 U.S.C. 973 et seq.

Abstract: Under authority of the South Pacific Tuna Act of 1988, this rule would implement recent amendments to the Treaty on Fisheries between the Governments of Certain Pacific Island States and the Government of the United States of America (also known as the South Pacific Tuna Treaty). The rule would include modification to the procedures used to request licenses for U.S. vessels in the western and central Pacific Ocean purse seine fishery, including changing the annual licensing period from June-to-June to the calendar year, and modifications to existing reporting requirements for purse seine vessels fishing in the western and central Pacific Ocean. The rule would implement only those aspects of the Treaty amendments that can be implemented under the existing South Pacific Tuna Act.

Timetable:

Action | Date | FR Cite
NPRM | 06/00/19 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG04

20. Illegal, Unregulated, and Unreported Fishing; Fisheries Enforcement; High Seas Driftnet Fishing Moratorium Protection Act

E.O. 13771 Designation: Regulatory.

Legal Authority: Pub. L. 114-81

Abstract: This proposed rule will make conforming amendments to regulations implementing the various statutes amended by the Illegal, Unreported and Unregulated Fishing Enforcement Act of 2015 (Pub. L. 114-81). The Act amends several regional fishery management organization implementing statutes as well as the High Seas Driftnet Fishing Moratorium Protection Act. It also provides authority to implement two new international agreements under the Antigua Convention, which amends the Convention for the establishment of an Inter-American Tropical Tuna Commission, and the United Nations Food and Agriculture Organization Agreement on Port State Measures to Prevent, Deter, and Eliminate Illegal, Unreported and Unregulated Fishing (Port State Measures Agreement), which restricts the entry into U.S. ports by foreign fishing vessels that are known to be or are suspected of engaging in illegal, unreported, and unregulated fishing. This proposed rule will also implement the Port State Measures Agreement. To that end, this proposed rule will require the collection of certain information from foreign fishing vessels requesting permission to use U.S. ports. It also includes procedures to designate and publicize the ports to which foreign fishing vessels may seek entry and procedures for conducting inspections of these foreign vessels accessing U.S. ports. Further, the rule establishes procedures for notification of: the denial of port entry or port services for a foreign vessel, the withdrawal of the denial of port services if applicable, the taking of enforcement action with respect to a foreign vessel, or the results of any inspection of a foreign vessel to the flag nation of the vessel and other competent authorities as appropriate.

Timetable:

Action | Date | FR Cite
NPRM | 05/00/19 |

Regulatory Flexibility Analysis Required: Yes.

Agency Contact: John Henderschedt, Director, Office for International Affairs and Seafood Inspection, Department of Commerce, National Oceanic and Atmospheric Administration, 1315 East-West Highway, Room 10362, Silver Spring, MD 20910, Phone: 301 427-8314, Email: john.henderschedt@noaa.gov.

RIN: 0648-BG11

21. International Fisheries; Western and Central Pacific Fisheries for Highly Migratory Species; Requirements To Safeguard Fishery Observers

E.O. 13771 Designation: Not subject to, not significant.

Legal Authority: 16 U.S.C. 6901 et seq.

Abstract: This rule would establish requirements to enhance the safety of fishery observers on highly migratory species fishing vessels. This rule would be issued under the authority of the Western and Central Pacific Fisheries Convention Implementation Act, and pursuant to decisions made by the Commission for the Conservation and Management of Highly Migratory Fish Stocks in the Western and Central Pacific Ocean. This action is necessary for the United States to satisfy its obligations under the Convention on the Conservation and Management of Highly Migratory Fish Stocks in the Western and Central Pacific Ocean, to which it is a Contracting Party.

Timetable:

Action | Date | FR Cite
NPRM | 07/00/19 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG66

22. Area of Overlap Between the Convention Areas of the Inter-American Tropical Tuna Commission and The Western and Central Pacific Fisheries Commission

E.O. 13771 Designation: Deregulatory.

Legal Authority: 16 U.S.C. 6901 et seq.; 16 U.S.C. 951 et seq.

Abstract: Under authority of the Western and Central Pacific Fisheries Convention Implementation Act and the Tuna Conventions Act, an area of overlap (overlap area) exists between the respective areas of competence of the Commission for the Conservation and Management of Highly Migratory Fish Stocks in the Western and Central Pacific Ocean and the Inter-American Tropical Tuna Commission. NMFS proposes to change the application of the two Commissions' management decisions in the overlap area to specifically apply Inter-American Tropical Tuna Commission management measures in the overlap area rather than those of the Commission for the Conservation and Management of Highly Migratory Fish Stocks in the Western and Central Pacific Ocean that currently apply there.

Timetable:

Action | Date | FR Cite
ANPRM | 06/12/18 | 83 FR 27305
ANPRM Comment Period End | 07/12/18 |
NPRM | 05/00/19 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BH59

23. Omnibus Deep-Sea Coral Amendment

E.O. 13771 Designation: Regulatory.

Legal Authority: 16 U.S.C. 1801 et seq.

Abstract: This action would implement the New England Fishery Management Council's Omnibus Deep-Sea Coral Amendment. The Amendment would implement measures that reduce impacts of fishing gear on deep-sea corals in the Gulf of Maine and on the outer continental shelf. In doing so, this action would prohibit the use of mobile bottom-tending gear in two areas in the Gulf of Maine (Mount Desert Rock and Outer Schoodic Ridge), and it would prohibit the use of all gear (with an exception for red crab pots) along the outer continental shelf in waters deeper than a minimum of 600 meters.

Timetable:

Action | Date | FR Cite
NPRM | 08/00/19 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BH67

24. Regulatory Amendment to The Pacific Coast Groundfish Fishery Management Plan To Implement an Electronic Monitoring Program for Bottom Trawl and Non-Whiting Midwater Trawl Vessels

E.O. 13771 Designation: Deregulatory.

Legal Authority: 16 U.S.C. 1801 et seq.

Abstract: The proposed action would implement a regulatory amendment to the Pacific Fishery Management Council's Pacific Coast Groundfish Fishery Management Plan to allow bottom trawl and midwater trawl vessels targeting non-whiting species the option to use electronic monitoring (video cameras and associated sensors) in place of observers to meet requirements for 100-percent observer coverage. By allowing vessels the option to use electronic monitoring to meet monitoring requirements, this action is intended to increase operational flexibility and reduce monitoring costs for the fleet.

Timetable:

Action | Date | FR Cite
NPRM | 05/00/19 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BH70

25. • Vessel Movement, Monitoring, and Declaration Management Enhancement for the Pacific Coast Groundfish Fishery; Pacific Coast Groundfish Fishery Management Plan

E.O. 13771 Designation: Deregulatory.

Legal Authority: 16 U.S.C. 1801 et seq.

Abstract: This rulemaking action would implement the Pacific Fishery Management Council's action to implement various measures that provide more efficient and effective monitoring, improve enforcement of restricted areas, and reduce costs for the Pacific coast groundfish fleet. This action would: increase the required frequency of signals transmitted from type-approved vessel monitoring system (VMS) units from once per hour to every 15 minutes to provide finer-scale vessel location data; allow vessels to use alternative VMS units; add a VMS declaration to indicate when a vessel is testing gear; allow vessels participating in the midwater trawl whiting fishery to change their declaration while at-sea to select a new whiting fishery; and allow vessels to move pot gear from one management area to another during a single trip while retaining fish from the primary management area.

Timetable:

Action | Date | FR Cite
NPRM | 05/00/19 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BI45

26. • Atlantic Highly Migratory Species; Pelagic Longline Bluefin Tuna Area-Based and Weak Hook Management

E.O. 13771 Designation: Deregulatory.

Legal Authority: 16 U.S.C. 1801 et seq.; 16 U.S.C. 971 et seq.

Abstract: Atlantic Highly Migratory Species (HMS) fisheries are managed under the dual authority of the Magnuson-Stevens Conservation and Management Act (Magnuson-Stevens Act) and the Atlantic Tunas Convention Act (ATCA). This rulemaking will address the area-based and weak hook management measures for bluefin tuna in the pelagic longline fishery. NMFS implemented an individual bluefin tuna quota system for pelagic longline fishery participants in 2015. With this approach and its emphasis on individual vessel accountability, NMFS has determined some fleetwide measures may be redundant. This action would appropriately streamline regulations and increase flexibility to the Atlantic pelagic longline fishery while maintaining bycatch reduction and conservation and management obligations.

Timetable:

Action | Date | FR Cite
NPRM | 05/00/19 |

Regulatory Flexibility Analysis Required: Yes.

Agency Contact: Alan Risenhoover, Director, Office of Sustainable Fisheries, Department of Commerce, National Oceanic and Atmospheric Administration, 1315 East-West Highway, Room 13362, Silver Spring, MD 20910, Phone: 301 713-2334, Fax: 301 713-0596, Email: alan.risenhoover@noaa.gov.

RIN: 0648-BI51

27. • Requirements To Safeguard Fishery Observers in the Eastern Pacific Ocean

E.O. 13771 Designation: Not subject to, not significant.

Legal Authority: 16 U.S.C. 951 et seq.

Abstract: This rulemaking action would domestically implement recently adopted resolutions on improving observer safety at sea by parties to the Inter-American Tropical Tuna Commission (IATTC) and the Agreement on the International Dolphin Conservation Program (AIDCP), including the United States. The resolutions are binding for IATTC member nations and AIDCP Parties, and under the Tuna Conventions Act, 16 U.S.C. 951 et seq. and the Marine Mammal Protection Act of 1972, as amended. These resolutions aim to strengthen protections for observers required in longline and transshipment observer programs required under the IATTC and on purse seine vessels required by the AIDCP. In implementing them, this rulemaking proposes to include provisions that detail responsibilities for vessel owners and operators, responsibilities for IATTC and AIDCP members to which fishing vessels are flagged, responsibilities for members that have jurisdiction over ports, and responsibilities for observer providers. The action is necessary for the United States to satisfy its international obligations as a Member of the IATTC and AIDCP.

Timetable:

Action | Date | FR Cite
NPRM | 08/00/19 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BI86

28. Amendment and Updates to the Pelagic Longline Take Reduction Plan

E.O. 13771 Designation: Not subject to, not significant.

Legal Authority: 16 U.S.C. 1361 et seq.

Abstract: Serious injury and mortality of the Western North Atlantic short-finned pilot whale stock incidental to the Category I Atlantic pelagic longline fishery continues at levels exceeding their Potential Biological Removal. This proposed action will examine a number of management measures to amend the Pelagic Longline Take Reduction Plan to reduce the incidental mortality and serious injury of short-finned pilot whales taken in the Atlantic Pelagic Longline fishery to below Potential Biological Removal. Potential management measures may include changes to the current limitations on mainline length, new requirements to use weak hooks (hooks with reduced breaking strength), and non-regulatory measures related to determining the best procedures for safe handling and release of marine mammals. The need for the proposed action is to ensure the Pelagic Longline Take Reduction Plan meets its Marine Mammal Protection Act mandated short- and long-term goals.

Timetable:

Action | Date | FR Cite
NPRM | 12/00/19 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BF90

29. Revision to Critical Habitat Designation for Endangered Southern Resident Killer Whales

E.O. 13771 Designation: Regulatory.

Legal Authority: 16 U.S.C. 1531 et seq.

Abstract: The proposed action would revise the designation of critical habitat for the endangered Southern Resident killer whale distinct population segment, pursuant to section 4 of the Endangered Species Act. Critical habitat for this population is currently designated within inland waters of Washington. In response to a 2014 petition, NMFS is proposing to expand the designation to include areas occupied by Southern Resident killer whales in waters along the U.S. West Coast. Impacts from the designation would stem mainly from Federal agencies' requirement to consult with NMFS, under section 7 of the Endangered Species Act, to ensure that any action they carry out, permit (authorize), or fund will not result in the destruction or adverse modification of critical habitat of a listed species. Federal agencies are already required to consult on effects to the currently designated critical habitat in inland waters of Washington, but consultation would be newly required for actions affecting the expanded critical habitat areas. Federal agencies are also already required to consult within the Southern Resident killer whales' range (including along the U.S. West Coast) to ensure that any action they carry out, permit, or fund will not jeopardize the continued existence of the species; this requirement would not change with a revision to the critical habitat designation.

Timetable:

Action | Date | FR Cite
NPRM | 09/00/19 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BH95

30. Designation of Critical Habitat for the Mexico, Central American, and Western Pacific Distinct Population Segments of Humpback Whales Under the Endangered Species Act

E.O. 13771 Designation: Regulatory.

Legal Authority: 16 U.S.C. 1531 et seq.

Abstract: This action will propose the designation of critical habitat for three distinct population segments of humpback whales (Megaptera novaeangliae) pursuant to section 4 of the Endangered Species Act. The three distinct population segments of humpback whales concerned—the Mexico, Central American, and Western Pacific distinct population segments—were listed under the Endangered Species Act on September 8, 2016, thereby triggering the requirement under section 4 of the Endangered Species Act to designate critical habitat to the maximum extent prudent and determinable. Proposed critical habitat for these three distinct population segments of humpback whales will include marine habitats within the Pacific Ocean and Bering Sea and will likely overlap with several existing designations, including critical habitat for leatherback sea turtles, North Pacific right whales, Steller sea lions, southern resident killer whales, and the southern distinct population segment of green sturgeon. Impacts from the designations for humpback whales would stem from the statutory requirement for Federal agencies to consult with NMFS, under section 7 of the Endangered Species Act, to ensure that any action they carry out, authorize, or fund will not result in the destruction or adverse modification of humpback whale critical habitat. Within many of the areas we are evaluating for potential proposal as critical habitat for the humpback whales distinct population segments, Federal agencies are already required to consult on effects to currently designated critical habitat for other listed species. Federal agencies are also already required to consult with NMFS under section 7 of the Endangered Species Act to ensure that any action they authorize, fund or carry out will not jeopardize the continued existence of the listed distinct population segments of humpback whales.

Timetable:

Action | Date | FR Cite
NPRM | 09/00/19 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BI06

DEPARTMENT OF COMMERCE (DOC)

National Oceanic and Atmospheric Administration (NOAA)

Final Rule Stage

National Marine Fisheries Service

31. Regulatory Amendment to the Pacific Coast Groundfish Fishery Management Plan To Implement an Electronic Monitoring Program for the Pacific Whiting Fishery

E.O. 13771 Designation: Deregulatory.

Legal Authority: 16 U.S.C. 1801 et seq.

Abstract: This action would implement a regulatory amendment to the Pacific Coast Groundfish Fishery Management Plan to allow Pacific whiting vessels the option to use electronic monitoring (video cameras and associated sensors) in place of observers to meet requirements for 100-percent observer coverage. Vessels participating in the catch share program are required to carry an observer on all trips to ensure total accountability for at-sea discards. For some vessels, electronic monitoring may have lower costs than observers and a reduced logistical burden. By allowing vessels the option to use electronic monitoring to meet monitoring requirements, this action is intended to increase operational flexibility and reduce monitoring costs for the Pacific whiting fleet.

Timetable:

Action | Date | FR Cite
NPRM | 09/06/16 | 81 FR 61161
NPRM Comment Period End | 10/06/16 |
Final Action | 05/00/19 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BF52

32. Commerce Trusted Trader Program

E.O. 13771 Designation: Deregulatory.

Legal Authority: 16 U.S.C. 1801 et seq.

Abstract: This rule will establish a voluntary Commerce Trusted Trader Program for importers, aiming to provide benefits such as reduced targeting and inspections and enhanced streamlined entry into the United States for certified importers. Specifically, this rule would establish the criteria required of a Commerce Trusted Trader, and identify specifically how the program will be monitored and by whom. It will require that a Commerce Trusted Trader establish a secure supply chain and maintain the records necessary to verify the legality of all designated product entering into U.S. commerce, but will excuse the Commerce Trusted Trader from entering that data into the International Trade Data System prior to entry, as required by Seafood Import Monitoring Program (finalized on December 9, 2016). The rule will identify the benefits available to a Commerce Trusted Trader, detail the application process, and specify how the Commerce Trusted Trader will be audited by third-party entities while the overall program will be monitored by the National Marine Fisheries Service.

Timetable:

Action | Date | FR Cite
NPRM | 01/17/18 | 83 FR 2412
NPRM Comment Period End | 03/19/18 |
Final Action | 05/00/19 |

Regulatory Flexibility Analysis Required: Yes.

Agency Contact: John Henderschedt, Director, Office for International Affairs and Seafood Inspection, Department of Commerce, National Oceanic and Atmospheric Administration, 1315 East-West Highway, Room 10362, Silver Spring, MD 20910, Phone: 301 427-8314, Email: john.henderschedt@noaa.gov.

RIN: 0648-BG51

33. Rule To Implement the For-Hire Reporting Amendments

E.O. 13771 Designation: Not subject to, not significant.

Legal Authority: 16 U.S.C. 1801 et seq.

Abstract: This rule proposes to implement Amendment 39 for the Snapper-Grouper Fishery of the South Atlantic Region, Amendment 9 for the Dolphin and Wahoo Fishery of the Atlantic, and Amendment 27 to the Coastal Migratory Pelagics Fishery of the Gulf of Mexico and Atlantic Regions (For-Hire Reporting Amendments). The For-Hire Reporting Amendments rule proposes mandatory weekly electronic reporting for charter vessel operators with a Federal for-hire permit in the snapper-grouper, dolphin wahoo, or coastal migratory pelagics fisheries; reduces the time allowed for headboat operators to complete their electronic reports; and requires location reporting by charter vessels with the same level of detail currently required for headboat vessels.

Timetable:

Action | Date | FR Cite
Notice of Availability | 03/14/18 | 83 FR 11164
NPRM | 04/04/18 | 83 FR 14400
NPRM Comment Period End | 05/04/18 |
Final Action | 05/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG75

34. Generic Amendment to the Fishery Management Plans for the Reef Fish Resources of the Gulf of Mexico and Coastal Migratory Pelagic Resources in the Gulf of Mexico and Atlantic Region

E.O. 13771 Designation: Not subject to, not significant.

Legal Authority: 16 U.S.C. 1801 et seq.

Abstract: This action, recommended by the Gulf of Mexico Fishery Management Council, would modify data reporting for owners or operators of federally permitted for-hire vessels (charter vessels and headboats) in the Gulf of Mexico, requiring them to declare the type of trip (for-hire or other) prior to departing for any trip, and electronically submit trip-level reports prior to off-loading fish at the end of each fishing trip. The declaration would include the expected return time and landing location. Landing reports would include information about catch and effort during the trip. The action would also require that these reports be submitted via approved hardware that includes a global positioning system attached to the vessel that is capable, at a minimum, of archiving global positioning system locations. This requirement would not preclude the use of global positioning system devices that provide real-time location data, such as the currently approved vessel monitoring systems.

Timetable:

Action | Date | FR Cite
Notice of Availability | 06/21/18 | 83 FR 28797
NPRM | 10/26/18 | 83 FR 54069
Correction | 11/08/18 | 83 FR 55850
Comment Period Extended | 11/20/18 | 83 FR 58522
NPRM Comment Period End | 11/26/18 |
Comment Period Extended End | 01/09/19 |
Final Action | 05/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BH72

35. Magnuson-Stevens Fisheries Conservation and Management Act; Traceability Information Program for Seafood

E.O. 13771 Designation: Other.

Legal Authority: 16 U.S.C. 1801 et seq.; Pub. L. 115-141

Abstract: On December 9, 2016, NMFS issued a final rule that established a risk-based traceability program to track seafood from harvest to entry into U.S. commerce. The final rule included, for designated priority fish species, import permitting and reporting requirements to provide for traceability of seafood products offered for entry into the U.S. supply chain, and to ensure that these products were lawfully acquired and are properly represented. Shrimp and abalone products were included in the final rule to implement the Seafood Import Monitoring Program, but compliance with Seafood Import Monitoring Program requirements for those species was stayed indefinitely due to the disparity between Federal reporting programs for domestic aquaculture of shrimp and abalone products relative to the requirements that would apply to imports under Seafood Import Monitoring Program. In section 539 of the Consolidated Appropriations Act, 2018, Congress mandated lifting the stay on inclusion of shrimp and abalone in Seafood Import Monitoring Program and authorized the Secretary of Commerce to require comparable reporting and recordkeeping requirements for domestic aquaculture of shrimp and abalone. This rulemaking would establish permitting, reporting and recordkeeping requirements for domestic producers of shrimp and abalone from the point of production to entry into commerce.

Timetable:

Action | Date | FR Cite
NPRM | 10/11/18 | 83 FR 51426
NPRM Comment Period End | 11/26/18 |
Final Action | 06/00/19 |

Regulatory Flexibility Analysis Required: Yes.

Agency Contact: John Henderschedt, Director, Office for International Affairs and Seafood Inspection, Department of Commerce, National Oceanic and Atmospheric Administration, 1315 East-West Highway, Room 10362, Silver Spring, MD 20910, Phone: 301 427-8314, Email: john.henderschedt@noaa.gov.

RIN: 0648-BH87

36. • Halibut Deck Sorting Monitoring Requirements for Trawl Catcher/Processors Operating in Non-Pollock Groundfish Fisheries Off Alaska

E.O. 13771 Designation: Deregulatory.

Legal Authority: 16 U.S.C 1801 et seq.

Abstract: In the non-pollock trawl groundfish fisheries off Alaska, there are catch limits for Pacific halibut as a prohibited species if halibut mortality reaches the limit, the fishery closes regardless of whether or not fishery participants have reached the quotas for the actual target groundfish species. This proposed action would implement catch handling and monitoring requirements to allow the sorting of Pacific halibut prohibited species catch (PSC) on the deck of trawl catcher/processors and motherships participating in these fisheries. This would allow Pacific halibut to be discarded prior to entering the onboard factory, thereby reducing discard mortality. Reducing halibut discard mortality could in turn maximize harvest of the directed groundfish fisheries that otherwise might be constrained by the regulatory halibut PSC limits. To participate in halibut deck sorting, a vessel would be required to comply with additional monitoring and equipment requirements to ensure accurate accounting for halibut PSC sorted on deck. Participation in this program along with the associated costs would be voluntary, allowing for flexibility for individual vessel owners of non-pollock trawl catcher/processors and motherships to determine if the benefits of reduced halibut mortality, and the corresponding reduction in fleet-wide PSC rates, outweigh the individual costs of complying with the monitoring and enforcement requirements.

Timetable:

Action | Date | FR Cite
NPRM | 04/16/19 | 84 FR 15566
NPRM Comment Period End | 05/16/19 |
Final Action | 06/00/19 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BI53

37. • Framework Adjustment 58 to the Northeast Multispecies Fishery Management Plan

E.O. 13771 Designation: Deregulatory.

Legal Authority: 16 U.S.C. 1801 et seq.

Abstract: The proposed action would implement management measures included in Framework Adjustment 58 to the Northeast Multispecies Fishery Management Plan (Framework 58) that were developed by the New England Fishery Management Council in response to new scientific information. The proposed action would set fishing year 2019 and 2020 specifications for seven stocks, including the three U.S./Canada stocks—Eastern Georges Bank cod, Eastern Georges Bank haddock, and Georges Bank yellowtail flounder. This action would also: Implement revised or new rebuilding programs for Georges Bank winter flounder, Southern New England/Mid-Atlantic yellowtail flounder, witch flounder, northern windowpane flounder, and ocean pout; temporarily revise catch thresholds for implementing the scallop fishery's accountability measures for Georges Bank yellowtail flounder; pay back an overage of Gulf of Maine cod catch from 2016; exempt vessels fishing exclusively in the North Atlantic Fisheries Organization areas from the U.S. minimum fish size for groundfish species; and make an administrative change to the deadline for permit holders to submit days-at-sea leasing forms to the National Marine Fisheries Service.

Timetable:

Action | Date | FR Cite
NPRM | 04/19/19 | 84 FR 16441
NPRM Comment Period End | 05/06/19 |
Final Action | 05/00/19 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BI64

38. Regulation To Reduce Incidental Bycatch and Mortality of Sea Turtles in the Southeastern U.S. Shrimp Fisheries

E.O. 13771 Designation: Regulatory.

Legal Authority: 16 U.S.C. 1531 et seq.

Abstract: The purpose of the proposed action is to aid in the protection and recovery of listed sea turtle populations by reducing incidental bycatch and mortality of small sea turtles in the Southeastern U.S. shrimp fisheries. As a result of new information on sea turtle bycatch in shrimp trawls and turtle excluder device testing, NMFS conducted an evaluation of the Southeastern U.S. shrimp fisheries that resulted in a draft environmental impact statement. This rule proposes to withdraw the alternative tow time restriction, and require certain vessels using skimmer trawls, pusher-head trawls, and wing nets (butterfly trawls), with the exception of vessels participating in the Biscayne Bay wing net fishery in Miami-Dade County, Florida, to use turtle excluder devices designed to exclude small sea turtles.

Timetable:

Action | Date | FR Cite | FR Cite
NPRM | 12/16/16 | 81 FR 91097
NPRM Comment Period End | 02/14/17 |
Final Action | 07/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG45

NOS/ONMS

39. Wisconsin-Lake Michigan National Marine Sanctuary Designation

E.O. 13771 Designation: Other.

Legal Authority: 16 U.S.C. 1431 et seq.

Abstract: On December 2, 2014, pursuant to section 304 of the National Marine Sanctuaries Act and the Sanctuary Nomination Process (79 FR 33851), a coalition of community groups submitted a nomination asking NOAA to designate an area of Wisconsin's Lake Michigan waters as a national marine sanctuary. The area is a region that includes 875 square miles of Lake Michigan waters and bottomlands adjacent to Manitowoc, Sheboygan, and Ozaukee counties and the cities of Port Washington, Sheboygan, Manitowoc, and Two Rivers. It includes 80 miles of shoreline and extends 9 to 14 miles from the shoreline. The area contains an extraordinary collection of submerged maritime heritage resources (shipwrecks) as demonstrated by the listing of 15 shipwrecks on the National Register of Historic Places. The area includes 39 known shipwrecks, 123 reported vessel losses, numerous other historic maritime-related features, and is adjacent to communities that have embraced their centuries-long relationship with Lake Michigan. NOAA completed its review of the nomination in accordance with the Sanctuary Nomination Process and on February 5, 2015, added the area to the inventory of nominations that are eligible for designation. On October 7, 2015, NOAA issued a notice of intent to begin the designation process and asked for public comment on making this area a national marine sanctuary. Designation under the National Marine Sanctuaries Act would allow NOAA to supplement and complement work by the State of Wisconsin and other Federal agencies to protect this collection of nationally significant shipwrecks.

Timetable:

Action | Date | FR Cite
NPRM | 01/09/17 | 82 FR 2269
NPRM Comment Period End | 03/31/17 |
Final Action | 09/00/19 |

Regulatory Flexibility Analysis Required: Yes.

Agency Contact: Vicki Wedell, Department of Commerce, National Oceanic and Atmospheric Administration, 1305 East-West Highway (N/ORM6), Silver Spring, MD 20910, Phone: 301 713-7237, Fax: 301 713-0404, Email: vicki.wedell@noaa.gov.

RIN: 0648-BG01

40. Mallows Bay-Potomac River National Marine Sanctuary Designation

E.O. 13771 Designation: Not subject to, not significant.

Legal Authority: 16 U.S.C. 1431 et seq.

Abstract: On September 16, 2014, pursuant to section 304 of the National Marine Sanctuaries Act and the Sanctuary Nomination Process (79 FR 33851), a coalition of community groups submitted a nomination asking NOAA to designate Mallows Bay-Potomac River as a national marine sanctuary. The Mallows Bay area of the tidal Potomac River is an area 40 miles south of Washington, DC, off the Nanjemoy Peninsula of Charles County, MD. The designation of a national marine sanctuary would focus on conserving the collection of maritime heritage resources (shipwrecks) in the area as well as expand the opportunities for public access, recreation, tourism, research, and education. NOAA completed its review of the nomination in accordance with the Sanctuary Nomination Process and on January 12, 2015, added the area to the inventory of nominations that are eligible for designation. On October 7, 2015, NOAA issued a notice of intent to begin the designation process and asked for public comment on making this area a national marine sanctuary. Designation under the National Marine Sanctuaries Act would allow NOAA to supplement and complement work by the State of Maryland and other Federal agencies to protect this collection of nationally significant shipwrecks.

Timetable:

Action | Date | FR Cite
NPRM | 01/09/17 | 82 FR 2254
NPRM Comment Period End | 03/31/17 |
Final Action | 08/00/19 |

Regulatory Flexibility Analysis Required: Yes.

Agency Contact: Vicki Wedell, Department of Commerce, National Oceanic and Atmospheric Administration, 1305 East-West Highway (N/ORM6), Silver Spring, MD 20910, Phone: 301 713-7237, Fax: 301 713-0404, Email: vicki.wedell@noaa.gov.

RIN: 0648-BG02

DEPARTMENT OF COMMERCE (DOC)

National Oceanic and Atmospheric Administration (NOAA)

Long-Term Actions

National Marine Fisheries Service

41. Implementation of a Program for Transshipments by Large Scale Fishing Vessels in the Eastern Pacific Ocean

E.O. 13771 Designation: Not subject to, not significant.

Legal Authority: 16 U.S.C. 951 et seq.; 16 U.S.C. 971 et seq.

Abstract: This rule would implement the Inter-American Tropical Tuna Commission program to monitor transshipments by large-scale tuna fishing vessels, and would govern transshipments by U.S. large-scale tuna fishing vessels and carrier, or receiving, vessels. The rule would establish: Criteria for transshipping in port; criteria for transshipping at sea by longline vessels to an authorized carrier vessel with an Inter-American Tropical Tuna Commission observer onboard and an operational vessel monitoring system; and require the Pacific Transshipment Declaration Form, which must be used to report transshipments in the Inter-American Tropical Tuna Commission Convention Area. This rule is necessary for the United States to satisfy its international obligations under the 1949 Convention for the Establishment of an Inter-American Tropical Tuna, to which it is a Contracting Party.

Timetable:

Action | Date | FR Cite
NPRM | 05/00/20 |

Regulatory Flexibility Analysis Required: Yes.

Agency Contact: Barry Thom, Phone: 503 231-6266, Email: barry.thom@noaa.gov.

RIN: 0648-BD59

42. Pacific Coast Groundfish Fishing Capacity Reduction Loan Refinance

E.O. 13771 Designation: Not subject to, not significant.

Legal Authority: 16 U.S.C. 1801 et seq.; 16 U.S.C. 1861 et seq.; 5 U.S.C. 561 et seq.

Abstract: Congress enacted the 2015 National Defense Authorization Act to refinance the existing debt obligation funding the fishing capacity reduction program for the Pacific Coast Groundfish fishery implemented under section 212. Pending appropriation of funds to effect the refinance, the National Marine Fisheries Service issued proposed regulations to seek comment on the refinancing and to prepare for an industry referendum and final rule. However, a subsequent appropriation to fund the refinancing was never enacted. As a result, the National Marine Fisheries Service has no funds with which to proceed, and the refinancing authority cannot be implemented at this time.

Timetable:

Action | Date | FR Cite
NPRM | 08/06/15 | 80 FR 46941
NPRM Comment Period End | 09/08/15 |
To Be Determined | To Be Determined

Regulatory Flexibility Analysis Required: Yes.

Agency Contact: Brian Pawlak, Phone: 301 427-8621, Email: brian.t.pawlak@noaa.gov.

RIN: 0648-BE90

43. International Fisheries; Western and Central Pacific Fisheries for Highly Migratory Species; Treatment of U.S. Purse Seine Fishing With Respect to U.S. Territories

E.O. 13771 Designation: Deregulatory.

Legal Authority: 16 U.S.C. 6901 et seq.

Abstract: This action would establish rules and/or procedures to address the treatment of U.S.-flagged purse seine vessels and their fishing activities in regulations issued by the National Marine Fisheries Service that implement decisions of the Commission for the Conservation and Management of Highly Migratory Fish Stocks in the Western and Central Pacific Ocean (Commission), of which the United States is a member. Under the Western and Central Pacific Fisheries Convention Implementation Act, the National Marine Fisheries Service exercises broad discretion when determining how it implements Commission decisions, such as purse seine fishing restrictions. The National Marine Fisheries Service intends to examine the potential impacts of the domestic implementation of Commission decisions, such as purse seine fishing restrictions, on the economies of the U.S. territories that participate in the Commission, and examine the connectivity between the activities of U.S.-flagged purse seine fishing vessels and the economies of the territories. Based on that and other information, the National Marine Fisheries Service might propose regulations that mitigate adverse economic impacts of purse seine fishing restrictions on the U.S. territories and/or that, in the context of the Convention on the Conservation and Management of Highly Migratory Fish Stocks in the Western and Central Pacific Ocean (Convention), recognize that one or more of the U.S. territories have their own purse seine fisheries that are distinct from the purse seine fishery of the United States and that are consequently subject to special provisions of the Convention and of Commission decisions.

Timetable:

Action | Date | FR Cite
ANPRM | 10/23/15 | 80 FR 64382
ANPRM Comment Period End | 11/23/15 |
NPRM | 05/00/20 |

Regulatory Flexibility Analysis Required: Yes.

Agency Contact: Michael Tosatto, Phone: 808 725-5000, Email: michael.tosatto@noaa.gov.

RIN: 0648-BF41

44. Reducing Disturbances to Hawaiian Spinner Dolphins From Human Interactions

E.O. 13771 Designation: Not subject to, not significant.

Legal Authority: 16 U.S.C. 1361 et seq.

Abstract: This action would implement regulatory measures under the Marine Mammal Protection Act to protect Hawaiian spinner dolphins that are resting in protected bays from take due to close approach interactions with humans.

Timetable:

Action | Date | FR Cite
ANPRM | 12/12/05 | 70 FR 73426
ANPRM Comment Period End | 01/11/06 |
NPRM | 08/24/16 | 81 FR 57854
NPRM Comment Period End | 10/23/16 |
NPRM Comment Period Reopened | 11/16/16 | 81 FR 80629
NPRM Comment Period Reopened End | 12/01/16 |
Final Action | To Be Determined

Regulatory Flexibility Analysis Required: Yes.

Agency Contact: Donna Wieting, Phone: 301 427-8400.

RIN: 0648-AU02

45. Designation of Critical Habitat for the Arctic Ringed Seal

E.O. 13771 Designation: Regulatory.

Legal Authority: 16 U.S.C. 1531 et seq.

Abstract: The National Marine Fisheries Service published a final rule to list the Arctic ringed seal as a threatened species under the Endangered Species Act (ESA) in December 2012. The ESA requires designation of critical habitat at the time a species is listed as threatened or endangered, or within one year of listing if critical habitat is not then determinable. This rulemaking would designate critical habitat for the Arctic ringed seal. The critical habitat designation would be in the northern Bering, Chukchi, and Beaufort seas within the current range of the species.

Timetable:

Action | Date | FR Cite
NPRM | 12/03/14 | 79 FR 71714
Proposed Rule | 12/09/14 | 79 FR 73010
Notice of Public Hearings | 01/13/15 | 80 FR 1618
Comment Period Extended | 02/02/15 | 80 FR 5498
Proposed Rule 2 | To Be Determined

Regulatory Flexibility Analysis Required: Yes.

Agency Contact: Donna Wieting, Phone: 301 427-8400.

RIN: 0648-BC56

46. Endangered and Threatened Species; Designation of Critical Habitat for Threatened Caribbean and Indo-Pacific Reef-Building Corals

E.O. 13771 Designation: Regulatory.

Legal Authority: 16 U.S.C. 1531 et seq.

Abstract: On September 10, 2014, the National Marine Fisheries Service listed 20 species of reef-building corals as threatened under the Endangered Species Act, 15 in the Indo-Pacific and five in the Caribbean. Of the 15 Indo-Pacific species, seven occur in U.S. waters of the Pacific Islands Region, including in American Samoa, Guam, the Commonwealth of the Mariana Islands, and the Pacific Remote Island Areas. This proposed rule would designate critical habitat for the seven species in U.S. waters (Acropora globiceps, Acropora jacquelineae, Acropora retusa, Acropora speciosa, Euphyllia paradivisa, Isopora crateriformis, and Seriatopora aculeata). The proposed designation would cover coral reef habitat around 17 island or atoll units in the Pacific Islands Region, including four in American Samoa, one in Guam, seven in the Commonwealth of the Mariana Islands, and five in Pacific Remote Island Areas, containing essential features that support reproduction, growth, and survival of the listed coral species. This rule also proposes to designate critical habitat for the five Caribbean corals and proposed to revise critical habitat for two, previously-listed corals, Acropora palmata and Acropora cervicornis.

Timetable:

Action | Date | FR Cite
NPRM | 05/00/20 |

Regulatory Flexibility Analysis Required: Yes.

Agency Contact: Donna Wieting, Phone: 301 427-8400.

RIN: 0648-BG26

DEPARTMENT OF COMMERCE (DOC)

National Oceanic and Atmospheric Administration (NOAA)

Completed Actions

47. Voting Criteria for a Referendum on a Gulf of Mexico Reef Fish Catch Share Program for For-Hire Vessels With Landings Histories

E.O. 13771 Designation: Not subject to, not significant.

Legal Authority: 16 U.S.C. 1801 et seq.

Abstract: Amendment 42 to the Fishery Management Plan for Reef Fish Resources in the Gulf of Mexico (Amendment 42) proposes to establish a catch share program for up to five species of reef fish for headboats with landings history in the Southeast Region Headboat Survey. This rule would inform the public of the procedures, schedule, and eligibility requirements that NOAA Fisheries would use in conducting the referendum that is required before the Gulf of Mexico Fishery Management Council (Council) can submit Amendment 42 for Secretarial review.

Timetable:

Action | Date | FR Cite
Withdrawn | 02/19/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG36

48. Allow Halibut Individual Fishing Quota Leasing to Community Development Quota Groups

E.O. 13771 Designation: Deregulatory.

Legal Authority: 16 U.S.C. 1861 et seq.; 16 U.S.C. 773 et seq.

Abstract: This action would allow Western Alaska Community Development Quota groups to lease halibut individual fishing quota in the Bering Sea and Aleutian Islands in years of low halibut catch limits. The Community Development Quota Program is an economic development program that provides eligible western Alaska villages with the opportunity to participate and invest in fisheries. The Community Development Quota Program receives annual allocations of total allowable catches for a variety of commercially valuable species. In recent years, low halibut catch limits have hindered most Community Development Quota groups' ability to create a viable halibut fishing opportunity for their residents. This rule would authorize Community Development Quota groups to obtain additional halibut quota from commercial fishery participants to provide Community Development Quota community residents more fishing opportunities in years when the halibut Community Development Quota allocation may not be large enough to present a viable fishery for participants.

Timetable:

Action | Date | FR Cite
NPRM | 02/23/18 | 83 FR 8028
NPRM Comment Period End | 03/26/18 |
Final Action | 10/18/18 | 83 FR 52760
Final Action Effective | 11/19/18 |

Regulatory Flexibility Analysis Required: No.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BG94

49. Amendment 116 to the Fishery Management Plan for Groundfish of the Bering Sea and Aleutian Islands Management Area

E.O. 13771 Designation: Not subject to, not significant.

Legal Authority: 16 U.S.C. 1801 et seq.

Abstract: This action would further limit access to the Bering Sea and Aleutian Islands yellowfin sole Trawl Limited Access fishery by catcher vessels delivering to offshore motherships or catcher/processors. In recent years, an unexpected increase in participation in the offshore sector of this fishery by catcher vessels allowed under current regulations has resulted in an increased yellowfin sole catch rate and a shorter fishing season. The North Pacific Fishery Management Council recently determined that limiting the number of eligible licenses assigned to catcher vessels in this fishery could stabilize the fishing season duration, provide better opportunity to increase production efficiency, and help reduce bycatch of Pacific halibut. This action modifies the License Limitation Program by establishing eligibility criteria for licenses assigned to catcher vessels to participate in this fishery based on historic participation.

Timetable:

Action | Date | FR Cite
Notice of Availability | 05/18/18 | 83 FR 23250
NPRM | 06/06/18 | 83 FR 26237
NPRM Comment Period End | 07/06/18 |
Correction | 07/20/18 | 83 FR 28604
Final Action | 10/04/18 | 83 FR 49994
Final Action Effective | 11/05/18 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BH02

50. Atlantic Highly Migratory Species; Atlantic Bluefin Tuna and North Atlantic Albacore Quotas

E.O. 13771 Designation: Deregulatory.

Legal Authority: 16 U.S.C. 1801 et seq.; 16 U.S.C. 971 et seq.

Abstract: The rule modified the baseline annual U.S. Atlantic bluefin tuna quota and subquotas, as well as the baseline annual U.S. North Atlantic albacore (northern albacore) quota. This action is necessary to implement binding recommendations of the International Commission for the Conservation of Atlantic Tunas, as required by the Atlantic Tunas Convention Act, and to achieve domestic management objectives under the Magnuson-Stevens Fishery Conservation and Management Act. The rule also implements a minor change to the Atlantic tunas size limit regulations to address retention, possession, and landings of tunas damaged by shark bites.

Timetable:

Action | Date | FR Cite
NPRM | 07/06/18 | 83 FR 31517
NPRM Comment Period End | 08/06/18 |
Final Action Effective | 10/10/18 |
Final Action | 10/11/18 | 83 FR 51391

Regulatory Flexibility Analysis Required: Yes.

Agency Contact: Alan Risenhoover, Director, Office of Sustainable Fisheries, Department of Commerce, National Oceanic and Atmospheric Administration, 1315 East-West Highway, Room 13362, Silver Spring, MD 20910, Phone: 301 713-2334, Fax: 301 713-0596, Email: alan.risenhoover@noaa.gov.

RIN: 0648-BH54

51. Atlantic Highly Migratory Species; Shortfin Mako Shark Management Measures

E.O. 13771 Designation: Not subject to, not significant.

Legal Authority: 16 U.S.C. 1801 et seq.; 16 U.S.C. 971 et seq.

Abstract: Atlantic Highly Migratory Species fisheries are managed under the dual authority of the Magnuson-Stevens Conservation and Management Act (Magnuson-Stevens Act) and the Atlantic Tunas Convention Act, which implements U.S. obligations as member of the International Commission for the Conservation of Atlantic Tunas. North Atlantic shortfin mako sharks were recently determined to be overfished and experiencing overfishing, and the Commission's member countries, including the United States, adopted management measures in 2017 to take immediate action to reduce fishing mortality of the stock, including releasing of live sharks and increasing minimum sizes. This action for shortfin mako sharks implements the United States' obligations under those management measures to help prevent overfishing of the U.S. component of that stock and establish a foundation for a rebuilding program. Through the rulemaking process, NMFS amended the 2006 Consolidated Highly Migratory Species Fishery Management Plan and examined management alternatives to address overfishing and establish a foundation for a rebuilding plan. This rulemaking will likely impact recreational and commercial fishing vessels that interact with shortfin mako sharks.

Timetable:

Action | Date | FR Cite
NPRM | 07/27/18 | 83 FR 35590
Comment Period Extended | 09/20/18 | 83 FR 47598
NPRM Comment Period End | 10/01/18 |
Comment Period Extended End | 10/08/18 |
Final Action | 02/21/19 | 84 FR 5358
Final Action Effective | 03/03/19 |

Regulatory Flexibility Analysis Required: Yes.

Agency Contact: Alan Risenhoover, Director, Office of Sustainable Fisheries, Department of Commerce, National Oceanic and Atmospheric Administration, 1315 East-West Highway, Room 13362, Silver Spring, MD 20910, Phone: 301 713-2334, Fax: 301 713-0596, Email: alan.risenhoover@noaa.gov.

RIN: 0648-BH75

52. Revisions to Regulations for Species With Sideboard Limits That Cannot Support Directed Fishing by Vessels Subject to Sideboards in the Bering Sea and Aleutian Islands and Gulf of Alaska

E.O. 13771 Designation: Not subject to, not significant.

Legal Authority: 16 U.S.C. 1801 et seq.

Abstract: This rule implements an action of the Northern Pacific Fishery Management Council by revising Federal regulations to prohibit directed fishing for those species with sideboard limits that are not large enough to support directed fishing by non-exempt American Fisheries Act vessels in the Bering Sea/Aleutian Islands and Gulf of Alaska and crab vessels in the Crab Rationalization Program (CR Program) in the Gulf of Alaska, or for those species that are fully allocated to other programs (e.g., flathead sole, rock sole, Western Aleutian Islands Atka mackerel). NMFS would then no longer publish American Fisheries Act and CR Program sideboard amounts for those species in the annual harvest specifications. In addition, the action removes the sideboard limit on American Fisheries Act catcher/processors for Central Aleutian Islands Atka mackerel because the sideboard limit under the American Fisheries Act (11.5 percent) is constrained by the allocation to the trawl limited access sector (10 percent) that was established by the Amendment 80 Program. The primary benefits of this action are that it would streamline the annual harvest specifications, reduce the annual costs of preparing and publishing the annual harvest specifications in the Federal Register, and simplify NMFS' annual programming changes to the agency's groundfish catch accounting system. This action would not alter how NMFS actually manages the relevant sideboard limits, and NMFS would continue to monitor Bering Sea/Aleutian Islands and Gulf of Alaska groundfish catch to ensure that each species' total allowable catch limit is not exceeded. This action would not incur any negative impacts to American Fisheries Act and crab sideboard limited vessels for the foreseeable future.

Timetable:

Action | Date | FR Cite
NPRM | 08/16/18 | 83 FR 40733
NPRM Comment Period End | 09/17/18 |
Final Action | 02/08/19 | 84 FR 2723
Final Action Effective | 03/11/19 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BH88

53. 2019-2020 Harvest Specifications and Management Measures for Pacific Coast Groundfish and Fishery Management Plan

E.O. 13771 Designation: Not subject to, not significant.

Legal Authority: 16 U.S.C. 1801 et seq.

Abstract: Every other year, the Pacific Fishery Management Council (Council) makes recommendations to set biennial allowable harvest levels for Pacific Coast groundfish, and recommends management measures for commercial, recreational, and Tribal fisheries that are designed to achieve those harvest levels consistent with the Pacific Coast Groundfish Fishery Management Plan. For the 2019-2020 biennium, the Council has recommended the following: Harvest specifications, including overfishing limits, acceptable biological catches, and annual catch limits; management measures to achieve those specifications; changes to the yelloweye rockfish rebuilding plan, which would increase the annual catch limit for this species for the 2-year biennial management period; and measures to reduce salmon bycatch in the groundfish fisheries. The specifications and management measures forwarded by this action are in effect from January 1, 2019, through December 31, 2020.

Timetable:

Action | Date | FR Cite
NPRM | 09/19/18 | 83 FR 47416
NPRM Comment Period End | 10/19/18 |
Final Action | 12/12/18 | 83 FR 63970
Correction | 12/27/18 | 83 FR 66638
Final Action Effective | 01/01/19 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BH93

54. Regulatory Amendment 28 to the Fishery Management Plan for the Snapper-Grouper Fishery of the South Atlantic Region

E.O. 13771 Designation: Not subject to, not significant.

Legal Authority: 16 U.S.C. 1801 et seq.

Abstract: Recent stock assessments for golden tilefish in the South Atlantic indicate that the stock is undergoing overfishing but is not overfished. As mandated by the Magnuson-Stevens Fishery Conservation and Management Act, NMFS and the South Atlantic Fishery Management Council must take action to end overfishing of golden tilefish—the Council by preparing a Fishery Management Plan amendment and NMFS by developing implementing regulations for the Council's chosen action. This rulemaking implements the Council's Regulatory Amendment 28 to the South Atlantic Snapper-Grouper Fishery Management Plan, which modifies the annual catch limits for golden tilefish to end overfishing in Federal waters of the South Atlantic. As per the Amendment, this rulemaking reduces the total annual catch limit, the commercial and recreational sector annual catch limits, and the quotas for the hook-and-line and longline components of the commercial sector.

Timetable:

Action | Date | FR Cite
NPRM | 09/28/18 | 83 FR 48788
NPRM Comment Period End | 10/12/18 |
Final Action | 12/04/18 | 83 FR 62508
Final Action Effective | 01/04/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BI38

55. Framework Action to the Fishery Management Plan for Reef Fish Resources of the Gulf of Mexico, Modification of Gulf of Mexico Red Snapper and Hogfish Annual Catch Limits

E.O. 13771 Designation: Not subject to, not significant.

Legal Authority: 16 U.S.C. 1801 et seq.

Abstract: The Gulf of Mexico Fishery Management Council recently took action to revise the acceptable biological catch and the annual catch limits for the Gulf of Mexico stocks of red snapper and hogfish. This action was taken in response to the most recent stock assessments for these species and the recommendations from the Council's Scientific and Statistical Committee. The red snapper and hogfish assessments found the stocks are neither overfished nor undergoing overfishing. This rulemaking would implement the Council's action by increasing the acceptable biological catch for red snapper and setting the annual catch limit to be equal to the acceptable biological catch. The established allocations would be used to set the commercial and recreational component annual catch limits, and recreational component annual catch targets. The acceptable biological catch for hogfish would decrease and the stock annual catch limit would be set equal to the acceptable biological catch. There are no allocations or annual catch targets for Gulf hogfish.

Timetable:

Action | Date | FR Cite
NPRM | 12/04/18 | 83 FR 62555
NPRM Comment Period End | 01/03/19 |
Final Action | 03/05/19 | 84 FR 7828
Final Action Effective | 04/04/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BI39

56. Regulatory Amendment To Authorize a Recreational Quota Entity

E.O. 13771 Designation: Deregulatory.

Legal Authority: 16 U.S.C. 773 to 773k

Abstract: The action authorizes a recreational quota entity in International Pacific Halibut Commission Regulatory Areas 2C and 3A in the Gulf of Alaska to purchase a limited amount of commercial halibut quota share for use in the charter halibut fishery. The recreational quota entity would provide a mechanism for a compensated reallocation of a portion of commercial halibut quota share from the Pacific Halibut and Sablefish Individual Fishing Quota Program to the charter halibut fishery in order to promote long-term planning and greater stability in the charter halibut fishery. Any halibut quota share from Area 2C or Area 3A purchased by the recreational quota entity would augment the amount of halibut available for harvest in the charter halibut fishery in that area. Underlying allocations to the charter and commercial halibut sectors would not change.

Timetable:

Action | Date | FR Cite
NPRM | 10/03/17 | 82 FR 46016
NPRM Comment Period End | 11/17/17 |
Final Action | 09/21/18 | 83 FR 47819
Final Action Effective | 10/22/18 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BG57

DEPARTMENT OF COMMERCE (DOC)

Patent and Trademark Office (PTO)

Final Rule Stage

57. Requirement of U.S. Licensed Attorney for Foreign Trademark Applicants and Registrants

E.O. 13771 Designation: Fully or Partially Exempt.

Legal Authority: 15 U.S.C. 1123; 35 U.S.C. 2

Abstract: The United States Patent and Trademark Office (USPTO) proposes to amend its rules to require foreign trademark applicants and registrants to be represented by a U.S. licensed attorney, i.e., an attorney in good standing of the bar of the highest court of a State in the U.S. (including the District of Columbia and any Commonwealth or territory of the U.S.) to file trademark documents with the USPTO. A requirement that foreigners be represented by a U.S. licensed attorney will (i) ensure that the USPTO can effectively use available mechanisms to enforce foreign applicant compliance with statutory and regulatory requirements in trademark matters; (ii) provide greater confidence to foreign applicants and the public that registrations that issue to foreign applicants are not subject to invalidation for reasons such as improper signatures and use claims; and (iii) aid USPTO efforts to improve accuracy of the U.S. Trademark Register.

Timetable:

Action | Date | FR Cite
NPRM | 02/15/19 | 84 FR 4393 FR
NPRM Comment Period End | 03/18/19 |
Final Action | 05/00/19 |
Final Action Effective | 06/00/19 |

Regulatory Flexibility Analysis Required: No.

Agency Contact: Catherine Cain, Senior Trademark Policy Attorney & Trademark Manual of Examining Procedure Editor, Department of Commerce, Patent and Trademark Office, P.O. Box 1451, Alexandria, VA 22314, Phone: 571 272-8946, Fax: 571 273-8946, Email: catherine.cain@uspto.gov.

RIN: 0651-AD30

[FR Doc. 2019-12326 Filed 6-21-19; 8:45 am]

BILLING CODE 3510-12-P